DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2007, there were nine applications approved. This notice also includes information on five applications, approved in August 2007, inadvertently left off the August 2007 notice. Additionally, 19 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Lebanon, New Hampshire.

Application Number: 07-05-C-00-LEB.

Application Type: Impose and use a PFC.

PFC Level: $4.50.

Total PFC Revenue Approved in This Decision: $140,625.

Earliest Charge Effective Date: October 1, 2007

Estimated Charge Expiration Date: April 1, 2010.

Class of Air Carriers Not Required To Collect PFC's: Air taxi/commercial operators—nonscheduled/on-demand commercial operators.

Determination: Approved. Based on information contained in the public agency's application, the FAA has determined that the approved class accounts for less than 1 percent of the total annual enplanements at Lebanon Municipal Airport.

Brief Description of Projects Approved for Collection and Use:

Pavement maintenance.

Preliminary design and permitting for south apron and taxiway.

Reconstruct west ramp, taxiways A and B.

Construct south apron.

PFC administration.

Decision Date: August 15, 2007.

For Further Information Contact: Priscilla Scott, New England Region Airports Division, (781) 238-7614.

Public Agency: County of Montrose, Montrose, Colorado.

Application Number: 07-04-C-00-MTJ.

Application Type: Impose and use a PFC.

PFC Level: $4.50.

Total PFC Revenue Approved in This Decision: $914,008.

Earliest Charge Effective Date: February 1, 2008.

Estimated Charge Expiration Date: August 1, 2010.

Classes of Air Carriers Not Required to Collect PFC's: Air/taxi/commercial operators filing FAA Form 1800-31.

Determination: Approved. Based on information contained in the public agency's application, the FAA has determined that the approved class accounts for less than 1 percent of the total annual enplanements at Montrose Regional Airport.

Brief Description of Projects Approved for Collection and Use:

Reconstruct airport access road.

PFC administration.

Decision Date: August 20, 2007.

For Further Information Contact: Chris Schaffer, Denver Airports District Office, (303) 342-1258.

Public Agency: Bert Mooney Airport Authority, Butte, Montana.

Application Number: 07-08-C-00-BTM.

Application Type: Impose and use a PFC.

PFC Level: $3.00.

Total PFC Revenue Approved in This Decision: $146,916.

Earliest Charge Effective Date: November 1, 2007.

Estimated Charge Expiration Date: April 1, 2009.

Class of Air Carriers Not Required to Collect PFC's: On demand, non-scheduled air taxi/commercial operators.

Determination: Approved. Based on information contained in the public agency's application, the FAA has determined that the approved class accounts for less than 1 percent of the total annual enplanements at Bert Mooney Airport.

Brief Description of Projects Approved for Collection and Use:

Rehabilitate south general aviation ramp.

Master plan update, phase IV.

Airfield sign replacement, phase II.

Drainage/erosion improvements.

South general aviation ramp expansion.

Rehabilitate air carrier taxiways (maintenance).

Rehabilitate portion of apron near aircraft rescue and firefighting building (maintenance).

Rehabilitate terminal access and loop roads (maintenance).

Decision Date: August 29, 2007.

For Further Information Contact: Dave Stelling, Helena Airports District Office, (406) 449-5257.

Public Agency: Dubuque Regional Airport Commission, Dubuque, Iowa.

Application Number: 07-09-C-00-DBQ.

Application Type: Impose and use a PFC.

PFC Level: $4.50.

Total PFC Revenue Approved in This Decision: $885,694.

Earliest Charge Effective Date: March 1, 2008.

Estimated Charge Expiration Date: January 1, 2013.

Class of Air Carriers Not Required To Collect PFC's: On-demand air taxi/commercial operations.

Determination: Approved. Based on information contained in the public agency's application, the FAA has determined that the approved class accounts for less than 1 percent of the total annual enplanements at Dubuque Regional Airport.

Brief Description of Projects Approved for Collection and Use:

New terminal development—site work.

New terminal development—utility improvements.

Pavement condition index.

PFC administration.

Decision Date: August 30, 2007.

For Further Information Contact: Todd Madison, Central Region Airports Division, (816) 329-2640.

Public Agency: Gillette-Campbell County Airport Board, Gillette, Wyoming.

Application Number: 07-06-C-00-GCC.

Application Type: Impose and use a PFC.

PFC Level: $4.50.

Total PFC Revenue Approved in This Decision: $167,238.

Earliest Charge Effective Date: July 1, 2008.

Estimated Charge Expiration Date: March 1, 2010.

Class of Air Carriers Not Required to Collect PFC's: Air taxi/commercial operators filing FAA Form 1800-31.

Determination: Approved. Based on information contained in the public agency's application, the FAA has determined that the approved class accounts for less than 1 percent of the total annual enplanements at Gillette-Campbell County Airport.

Brief Description of Projects Approved for Collection and Use:

Construct apron.

Acquire development land.

PFC administration.

Decision Date: August 30, 2007.

For Further Information Contact: Chris Schaffer, Denver Airports District Office, (303) 342-1258.

Public Agency: City of Chicago Department of Aviation, Chicago, Illinois.

Application Number: 06-19-C-00-ORD.

Application Type: Impose and use a PFC.

PFC Level: $4.50.

Total PFC Revenue Approved in This Decision: $1,290,509,174.

Earliest Charge Effective Date: June 1, 2016.

Estimated Charge Expiration Date: May 1, 2024.

Class of Air Carriers Not Required To Collect PFC's: Air taxi.

Determination: Approved. Based on information contained in the public agency's application, the FAA has determined that the approved class accounts for less than 1 percent of the total annual enplanements at Chicago O'Hare International Airport (ORD).

Brief Description of Project Approved for Collection at ORD and Use at ORD at a $4.50 PFC Level: Northwest and southwest land acquisition.

Brief Description of Projects Partially Approved for Collection at ORD and Use at ORD at a $4.50 PFC Level: New runway 9L/27R—construction.

Determination: The FAA concluded that the City of Chicago did not provide enough information for the FAA to determine the eligibility of the “Balance” line item and the north airfield facilities and American Airlines parking lot relocations. Therefore, the FAA disapproved those elements of the project.

Extension of future runway 10L/28R.

Determination: The FAA concluded that the City of Chicago did not provide enough information for the FAA to determine the eligibility of the “Balance” line item. Therefore the FAA disapproved that element of the project.

Future runway 10C/28C—construction.

Determination: The FAA concluded that the City of Chicago did not provide enough information for the FAA to determine the eligibility of the “Balance” line item and the United Airlines cargo facility, Federal Express cargo facility, El Al cargo simulator, and south airfield fueling satellite relocations. Therefore, the FAA disapproved those elements of the project.

Brief Description of Project Approved for Collection at ORD and Use at Gary/Chicago International Airport at a $3.00 PFC level: Railroad relocation and runway extension.

Decision Date: September 4, 2007.

For Further Information Contact: Amy Hanson, Chicago Airports District Office, (847) 294-7354.

Public Agency: Allegheny County Airport Authority, Pittsburgh, Pennsylvania.

Application Number: 07-05-C-00-PIT.

Application Type: Impose and use a PFC.

PFC Level: $4.50.

Total PFC Revenue Approved in This Decision: $129,507,500.

Earliest Charge Effective Date: November 1, 2017.

Estimated Charge Expiration Date: March 1, 2023.

Class of Air Carriers Not Required To Collect PFC's: Non-scheduled, on-demand air carriers.

Determination: Approved. Based on information contained in the public agency's application, the FAA has determined that the approved class accounts for less than 1 percent of the total annual enplanements at Pittsburgh International Airport.

Brief Description of Projects Approved for Collection and Use at a $4.50 PFC Level:

Airfield pavement rehabilitation/replacement—runways 14/32 and 10R/28L; taxiways, F, F4, F5, A, Q, P, C, E, N, N4, R, S, and AA; deicing pad C, and main apron.

Airfield/terminal security upgrades phase III.

Brief Description of Projects Approved for Collection and Use at a $3.00 PFC Level:

Terminal rehabilitation/upgrades, phase I.

Snow removal equipment storage building, phase II.

Fixed base operator/cargo A jet blast fence.

Decision Date: September 4, 2007.

For Further Information Contact: Lori Ledebohm, Harrisburg Airports District Office, (717) 730-2835.

Public Agency: City of Waco, Texas.

Application Number: 07-03-C-00-ACT.

Application Type: Impose and use a PFC.

PFC Level: $4.50.

Total PFC Revenue Approved in This Decision: $668,255.

Earliest Charge Effective Date: January 1, 2008.

Estimated Charge Expiration Date: February 1, 2010.

Class of Air Carriers Not Required To Collect PFC's: Non-scheduled/on-demand air carriers filing FAA Form 1800-31.

Determination: Approved. Based on information contained in the public agency's application, the FAA has determined that the approved class accounts for less than 1 percent of the total annual enplanements at Waco Regional Airport.

Brief Description of Projects Approved for Collection and Use:

Rehabilitate apron.

Rehabilitate parking lot.

Acquire aircraft rescue and firefighting vehicle.

Improve aircraft rescue and firefighting building.

Improve runway safety area;

Improve access road.

Improve airport drainage.

Install runway visual guidance system.

Improve passenger terminal.

Expand apron.

Strengthen runway.

Enhance airport security.

Miscellaneous planning studies.

PFC application.

Decision Date: September 12, 2007.

For Further Information Contact: Guillermo Villalobos, Texas Airports District Office, (817) 222-5657.

Public Agency: Yuma County Airport Authority, Yuma, Arizona.

Application Number: 07-02-C-00-YUM.

Application Type: Impose and use a PFC.

PFC Level: $4.50.

Total PFC Revenue Approved in This Decision: $1,155,674.

Earliest Charge Effective Date: November 1, 2007.

Estimated Charge Expiration Date: January 1, 2013.

Classes of Air Carriers Not Required To Collect PFC's: (1) Non-scheduled, on-demand air carriers filing FAA Form 1800-31; (2) non-scheduled large certificated air carriers filing Research and Special Programs Administration Form T-100 with less than 500 annual enplanements at Yuma Marine Corps Air Station/Yuma International Airport (YUM).

Determination: Approved. Based on information contained in the public agency's application, the FAA has determined that each approved class accounts for less than 1 percent of the total annual enplanements at YUM.

Brief Description of Projects Approved for Collection and Use:

Terminal building modification (baggage screening area).

Purchase power sweeper.

Conduct environmental assessment for land acquisition.

Rehabilitate connecting taxiway F.

Construct parallel taxiway Y (runway 3L/21R).

Decision Date: September 13, 2007.

For Further Information Contact: Darlene Williams, Los Angeles Airports District Office, (301) 725-3625.

Public Agency: County of San Luis Obispo, San Luis Obispo, California.

Application Number: 07-08-C-00-SBP.

Application Type: Impose and use a PFC.

PFC Level: $4.50.

Total PFC Revenue Approved in This Decision: $2,028,190.

Earliest Charge Effective Date: July 1, 2019.

Estimated Charge Expiration Date: January 1, 2022.

Class of Air Carriers Not Required To Collect PFC's: Non-scheduled, on-demand air carriers filing FAA Form 1800-31 (unscheduled Part 135 air taxi operators).

Determination: Approved. Based on information contained in the public agency's application, the FAA has determined that the approved class accounts for less than 1 percent of the total annual enplanements at San Luis County Regional Airport.

Brief Description of Projects Approved for Collection and Use:

Environmental assessment and environmental impact report.

Runway 11/29 extension.

Land acquisition for runway 11/29 approach protection.

Engineering materials arresting system at each end of runway 11/29.

Update airport layout plan.

Aircraft rescue and firefighting mass casualty vehicle.

Decision Date: September 13, 2007.

For Further Information Contact: Ron Bianco, San Francisco Airports District Office, (650) 876-2778, extension 626.

Public Agency: Lawton Metropolitan Airport Authority, Lawton, Oklahoma.

Application Number: 07-05-C-00-LAW.

Application Type: Impose and use a PFC.

PFC Level: $4.50.

Total PFC Revenue Approved in This Decision: $357,888.

Earliest Charge Effective Date: November 1, 2007.

Estimated Charge Expiration Date: November 1, 2009.

Class of Air Carriers Not Required To Collect PFC's: None.

Brief Description of Projects Approved for Collection and Use:

Drainage improvements.

Master plan update.

Fire suits.

Rehabilitate T-hanger taxiways.

Reconstruct taxiway G.

Extend taxiway G.

Rehabilitate south 2,400 feet of runway 17/35.

Rehabilitate runway 17/35.

Decision Date: September 13, 2007.

For Further Information Contact: Bill Bell, Oklahoma Airports District Office, (817) 222-5664.

Public Agency: City of Des Moines, Iowa.

Application Number: 07-10-C-00-DSM.

Application Type: Impose and use a PFC.

PFC Level: $4.50.

Total PFC Revenue Approved in This Decision: $7,662,500.

Earliest Charge Effective Date: August 1, 2015.

Estimated Charge Expiration Date: August 1, 2017.

Class of Air Carriers Not Required To Collect PFC's: Part 135 air taxi/commercial operators.

Determination: Approved. Based on information contained in the public agency's application, the FAA has determined that each approved class accounts for less than 1 percent of the total annual enplanements at Des Moines International Airport.

Brief Description of Projects Approved for Collection and Use:

Terminal modifications for explosive detection system deployment.

Full-depth replacement—north Elliott apron.

Security gate expansion.

Master plan update/part 150 update.

Terminal enhancements.

Airport common use terminal system.

Decision Date: September 19, 2007.

For Further Information Contact: Todd Madison, Central Region Airports Division, (816) 329-2640.

Public Agency: Kenton County Airport Board, Covington, Kentucky.

Application Number: 07-11-C-00-CVG.

Application Type: Impose and use a PFC.

PFC Level: $3.00

Total PFC Revenue Approved in This Decision: $6,478,000.

Earliest Charge Effective Date: July 1, 2015.

Estimated Charge Expiration Date: November 1, 2015.

Classes of Air Carriers Not Required To Collect PFC's: (1) Part 121 supplemental operators, which operate at the airport without an operating agreement with the Kenton County Airport Board and enplane less than 1,500 passengers a year; (2) Part 135 on-demand air taxis, both fixed wing and rotary.

Determination: Approved. Based on information contained in the public agency's application, the FAA has determined that each approved class accounts for less than 1 percent of the total annual enplanements at Cincinnati/Northern Kentucky International Airport.

Brief Description of Projects Approved for Collection and Use:

Upgrade terminal 2 paging/sound system.

Apron/taxiway lanes pavement rehabilitation phase 2.

Security equipment.

Deice pad 8 construction.

Decision Date: September 21, 2007.

For Further Information Contact: Cynthia Wills, Memphis Airports District Office, (901) 322-8190.

Public Agency: Jackson Municipal Airport Authority, Jackson, Mississippi.

Application Number: 07-05-C-00-JAN.

Application Type: Impose and use a PFC.

PFC Level: $4.50.

Total PFC Revenue Approved in This Decision: $25,073,400.

Earliest Charge Effective Date: November 1, 2007.

Estimated Charge Expiration Date: March 1, 2015.

Class of Air Carriers Not Required To Collect PFC's: Air taxi/commercial operators filing FAA Form 1800-31.

Determination: Approved. Based on information contained in the public agency's application, the FAA has determined that the approved class accounts for less than 1 percent of the total annual enplanements at Jackson-Evers International Airport (JAN).

Brief Description of Projects Approved for Collection and Use:

Passenger jet bridges (gates 17 and 19).

Access control security project.

Rehabilitation of primary utility services.

Rehabilitation of energy management system and emergency power sources.

Rehabilitation of storm water infrastructure.

Master plan updates for JAN and Hawkins Field.

Pavement rehabilitation.

Rehabilitation of air carrier apron.

Interactive education training system upgrade.

Airfield lighting improvement.

Airfield signage inventory and assessment.

PFC development and implementation assistance.

Brief Description of Disapproved Project: Environmental planning and compliance actions.

Determination: The work elements contained in this project are airport operational requirements for compliance with the Federal Water Pollution Control Act of 1972. Therefore, this project is not PFC eligible.

Decision Date: September 24, 2007.

For Further Information Contact: Rans Black, Jackson Airports District Office, (601) 664-9892.

Amendments to PFC Approvals
Amendment No. city, state | Amendment approved date | Original approved net PFC revenue | Amended approved net PFC revenue | Original estimated charge exp. date | Amended estimated charge exp. date
04-07-C-03-MSY, New Orleans, LA | 8/14/07 | $54,339,312 | $75,182,406 | 7/01/18 | 10/01/17
01-03-C-04-LIT, Little Rock, AR | 8/15/07 | 20,988,973 | 18,382,528 | 05/01/06 | 07/01/05
06-05-C-01-LIT, Little Rock, AR | 08/15/07 | 7,913,333 | 5,113,333 | 10/01/07 | 05/01/06
02-04-C-04-LBB, Lubbock, TX | 08/28/07 | 1,912,978 | 1,429,731 | 11/01/04 | 02/01/05
06-10-C-01-PHL, Philadelphia, PA | 09/05/07 | 83,250,000 | 198,950,000 | 02/01/21 | 09/01/17
93-01-C-05-EUG, Eugene, OR | 09/06/07 | 6,256,888 | 4,959,717 | 01/01/01 | 01/01/01
96-02-U-02-EUG, Eugene, OR | 09/07/07 | NA | NA | 01/01/01 | 01/01/01
01-04-C-01-PSC, Pasco, WA | 09/17/07 | 1,059,136 | 583,057 | 04/01/04 | 11/01/03
02-05-C-01-PSC, Pasco, WA | 09/18/07 | 1,409,000 | 1,222,976 | 02/01/06 | 05/01/04
00-06-C-03-COS, Colorado Springs, CO | 09/19/07 | 3,374,865 | 3,299,290 | 09/01/03 | 09/01/03
02-07-C-02-COS, Colorado Springs, CO | 09/19/07 | 5,620,814 | 5,583,870 | 11/01/04 | 11/01/04
00-05-C-04-PBI, West Palm Beach, FL | 09/19/07 | 8,924,000 | 6,975,897 | 04/01/04 | 04/01/04
02-06-U-01-PBI, West Palm Beach, FL | 09/19/07 | NA | NA | 04/01/04 | 04/01/04
06-04-C-01-CID, Cedar Rapids, IA | 09/09/07 | 8,884,708 | 7,137,708 | 07/01/10 | 11/01/09
00-04-C-01-MLB, Melbourne, FL | 09/20/07 | 592,944 | 824,676 | 11/01/01 | 11/01/01
95-02-C-03-LEX, Lexington, KY | 09/24/07 | 1,082,324 | 500,557 | 12/01/03 | 12/01/03
07-05-C-01-PIT, Pittsburgh, PA | 09/25/07 | 129,507,500 | 134,901,500 | 03/01/23 | 06/01/23
96-02-C-05-JAX, Jacksonville, FL | 09/26/07 | 20,213,839 | 19,643,843 | 08/01/99 | 08/01/99
01-06-U-01-JAX, Jacksonville, FL | 09/26/07 | NA | NA | 08/01/99 | 08/01/99

Issued in Washington, DC, on October 23, 2007.
Joe Hebert,
Manager, Financial Analysis and Passenger Facility Charge Branch.

[FR Doc. 07-5352 Filed 10-26-07; 8:45 am]

BILLING CODE 4910-13-M